DEPARTMENT OF HEALTH AND HUMAN SERVICES

National Institutes of Health

National Cancer Institute Cancellation of Meeting

Notice is hereby given of the cancellation of the National Cancer Institute Board of Scientific Advisors, March 5, 2012, 9 a.m. to March 6, 2012, 12 p.m., National Institutes of Health, Building 31, 31 Center Drive, 6th Floor, Conf. Rm. 10, Bethesda, MD, 20892 which was published in the Federal Register on February 1, 2012, 5032.

The meeting has been cancelled.

Dated: February 7, 2012.
Jennifer S. Spaeth,
Director, Office of Federal Advisory Committee Policy.

[FR Doc. 2012-3419 Filed 2-14-12; 8:45 am]

BILLING CODE 4140-01-P